Title 3—

The President

Proclamation 8895 of November 1, 2012

Military Family Month, 2012

By the President of the United States of America

A Proclamation

Since our Nation's earliest days, courageous men and women of all backgrounds and beliefs have banded together to fight for the freedoms we cherish. Behind each of them stands a parent, a sibling, a child, a spouse—proud family members who share the weight of deployment and make profound sacrifices on behalf of our country. During Military Family Month, we honor our military families and recommit to showing them the fullest care and respect of a grateful Nation.

In our military families, we see the best our country has to offer. They demonstrate the virtues that have made America great for more than two centuries and the values that will preserve our greatness for centuries to come. With loved ones serving far from home, military spouses take on the work of two. Their children show courage and resilience as they move from base to base, school to school, home to home. And even through the strain of deployment, military families strengthen the fabric of each community they touch and enrich our national life as shining examples of patriotism.

We each have a solemn duty to serve our Armed Forces and their families as well as they serve us. Through First Lady Michelle Obama and Dr. Jill Biden's Joining Forces initiative, we have worked to fulfill this obligation by mobilizing all Americans to give service members and their families the opportunities and support they have earned. Last year, we challenged American businesses to hire or train 100,000 veterans and military spouses by the end of 2013. To date, they have already exceeded that challenge, hiring over 125,000 veterans and military spouses. From helping military children succeed in the classroom to increasing support for those who care for our wounded warriors, Joining Forces will keep fighting to ensure the well-being of our troops and their families.

When a young woman signs up to defend our Nation, her parents are enlisted as well. When a father deploys to a combat zone, his children are called to serve on the home front. And when the men and women of our military serve far from home, their families feel the strain of their absence. In that absence, let us stand together as one American family. Let us honor the brave patriots who keep our country safe, and let us forever hold close the memories of those who have perished in the line of duty. This month, we reaffirm that we will always lift up our military families—not just when their loved ones are away, but also long after the welcome home ceremonies are over.

NOW, THEREFORE, I, BARACK OBAMA, President of the United States of America, by virtue of the authority vested in me by the Constitution and the laws of the United States, do hereby proclaim November 2012 as Military Family Month. I call on all Americans to honor military families through private actions and public service for the tremendous contributions they make in support of our service members and our Nation.

IN WITNESS WHEREOF, I have hereunto set my hand this first day of November, in the year of our Lord two thousand twelve, and of the Independence of the United States of America the two hundred and thirty-seventh.

[FR Doc. 2012-27188

Filed 11-5-12; 8:45 am]

Billing code 3295-F3